DEPARTMENT OF HOMELAND SECURITY

U.S. Customs and Border Protection

[Docket No. USCBP-2018-0045]

Announcing Change of Location for Public Meeting: 21st Century Customs Framework

AGENCY: U.S. Customs and Border Protection (CBP), Department of Homeland Security (DHS).

ACTION: Notice of change of location for public meeting.

SUMMARY: U.S. Customs and Border Protection (CBP) is announcing a change in location for “The 21st Century Customs Framework” public meeting to be held on Friday, March 1, 2019. The public meeting will be held at the U.S. Department of Commerce, Herbert Hoover Auditorium. CBP is also re-opening the registration links to allow for additional participation. Participants who have previously registered do not need to re-register.

DATES:

Meeting: The meeting to discuss “The 21st Century Customs Framework” will be held on Friday, March 1, 2019, from 9:00 a.m. to 5:00 p.m. EST.

Pre-registration: Members of the public wishing to attend the meeting whether in-person or via teleconference must register as indicated in the ADDRESSES section. Participants who have previously registered do not need to re-register. Registration will remain open until the venue reaches capacity.

Cancellation of pre-registration: Members of the public who are pre-registered to attend in-person or via teleconference and later need to cancel, please do so by 5:00 p.m. EST, February 22, 2019.

ADDRESSES:

Meeting: The meeting will be conducted in-person and via teleconference. The in-person meeting will be held at the U.S. Department of Commerce, Herbert Hoover Auditorium, 1401 Constitution Avenue NW, Washington, DC 20230. The teleconference number will be provided to all registrants by 5:00 p.m. EST on February 28, 2019. For information on services for individuals with disabilities or to request special assistance at the meeting, contact Mr. Brandon Lord, Office of Trade, U.S. Customs & Border Protection, at (202) 325-6432 or email, 21CCF@cbp.dhs.gov as soon as possible.

Pre-registration: Meeting participants may attend either in-person or via teleconference after pre-registering using one of the methods indicated below. All in-person attendees must pre-register; on-site registration is not permitted.

For members of the public who plan to attend the meeting in-person, please register online at https://teregistration.cbp.gov/index.asp?w=145.

For members of the public who plan to participate via teleconference, please register online at https://teregistration.cbp.gov/index.asp?w=146.

Participants who have previously registered do not need to re-register. Registration will remain open until the venue reaches capacity. Please feel free to share this information with other interested members of your organization or association.

Members of the public who are pre-registered to attend and later need to cancel, please do so by 5:00 p.m. EST, February 22, 2019, utilizing the following links: https://teregistration.cbp.gov/cancel.asp?w=145 to cancel an in-person registration or https://teregistration.cbp.gov/cancel.asp?w=146 to cancel a teleconference registration.

Docket: For access to the docket or to read background documents or comments, go to http://www.regulations.gov and search for Docket Number USCBP-2018-0045.

FOR FURTHER INFORMATION CONTACT: Mr. Brandon Lord, Office of Trade, U.S. Customs and Border Protection, 1331 Pennsylvania Avenue NW, Suite 950N, Washington, DC 20229; telephone (202) 325-6432 or email 21CCF@cbp.dhs.gov.

SUPPLEMENTARY INFORMATION:

Change of Meeting Location

On December 21, 2018, CBP published a notice in the Federal Register (83 FR 65703) announcing the “Public Meeting: 21st Century Customs Framework” initiative and public meeting. This document announces a change in location for the public meeting to be held on March 1, 2019. All other information, including times and topics to be addressed announced in the notice, remain the same. The in-person meeting will be held at the U.S. Department of Commerce, Herbert Hoover Auditorium, 1401 Constitution Avenue NW, Washington, DC 20230. Parking is available at the Ronald Reagan Building. The nearest metro stop is Federal Triangle. No food or drinks are allowed in the auditorium with the exception of bottled water.

21st Century Customs Framework Initiative Overview

CBP is cognizant of the need to stay modern in order to meet the challenges of an evolving trade landscape. New actors, industries, and modes of conducting business have emerged, disrupting the traditional global supply chain. To continue to effectively fulfill CBP's mission, CBP is pursuing an initiative titled “The 21st Century Customs Framework.” “The 21st Century Customs Framework” will seek to address and enhance numerous aspects of CBP's trade mission to better position the agency to operate in the 21st century trade environment.

Through preliminary efforts, CBP has identified key themes for which CBP seeks public input: (1) Emerging Roles in the Global Supply Chain; (2) Intelligent Enforcement; (3) Cutting-Edge Technology; (4) Data Access and Sharing; (5) 21st Century Processes; and (6) Self-Funded Customs Infrastructure. For brief descriptions of each theme please refer to the December 21, 2018 public meeting announcement in the Federal Register (83 FR 65703).

Dated: February 7, 2019.
Brenda B. Smith,
Executive Assistant Commissioner, Office of Trade.

[FR Doc. 2019-01997 Filed 2-11-19; 8:45 am]

BILLING CODE 9111-14-P